DEPARTMENT OF HEALTH AND HUMAN SERVICES

Administration for Community Living

Agency Information Collection Activities; Submission for OMB Review; Public Comment Request; the Analysis of Senior Medicare Patrol Grantees' Program Implementation OMB Control Number 0985-New

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to the analysis of Senior Medicare Patrol Grantees' Program Implementation.

DATES: Submit written comments on the collection of information by April 3, 2023.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Kristen Robinson, Kristen.Robinson@acl.hhs.gov, 202-795-7428.

SUPPLEMENTARY INFORMATION: In compliance with 44 U.S.C. 3507, The Administration for Community Living (ACL) has submitted the following proposed collection of information to OMB for review and clearance. ACL is requesting approval to collect data for the Under ACL's Office of Healthcare Information and Counseling, the Senior Medicare Patrol (SMP) programs recruit and train a national network of staff and volunteers to help “prevent, detect, and report Medicare fraud, errors, and abuse.” ¹ The SMP supports programs in every state, the District of Columbia, and in U.S. territories through grants. Additionally, the SMP Resource Center, established in 2003, assists SMP grantees in networking and provides tools, training, and technical assistance to SMPs. To promote and advance equity in its programming, ACL is conducting interviews with SMP program directors or their designee to better understand their activities and their experiences in program implementation and in reaching low-income and rural Medicare beneficiaries.

¹ Administration for Community Living. (2022, November 8). Senior Medicare Patrol (SMP). Available at https://acl.gov/programs/protecting-rights-and-preventing-abuse/senior-medicare-patrol-smp.

Specifically, this IC will allow ACL to understand (1) how SMP grantees conceive of program priorities; (2) successes and challenges SMP grantees experience in implementing activities and in reaching low-income and rural Medicare beneficiaries; and (3) which programs need clarification on programmatic priority expectations or additional support to conduct their activities.

Up to 54 SMP grantee representatives and one SMP Resource Center representative will be invited to participate in a 75-minute web-based interview. Findings from the interviews will inform ACL's strategy to support SMP grantees in achieving program priorities and to promote equitable access to SMP activities for low-income and rural Medicare beneficiaries.

Comments in Response to the 60-Day Federal Register Notice

A notice published in the Federal Register 87 FR 77849 on 12/20/2022. No comments were received during the 60-day FRN.

Estimated Program Burden: ACL estimates the burden of this collection of information as follows:

A maximum of 54 SMP grantee project directors or their designees and one representative from the SMP Resource Center are expected to participate in interviews over videoconferencing. The approximate burden for participation in interviews is 1.25 hours per respondent for a total estimate of 68.75 hours.

Respondent/data collection activity | Number of respondents | Responses per respondent | Hours per response | Annual burden hours | Cost per hour | Annual burden cost
Interviews with grantees and SMP Resource Center | 54 | 1 | 1.25 | 67.5 | ¹$26.12 | $1,763.10
Interview with SMP Resource Center | 1 | 1 | 1.25 | 1.25 | ²36.92 | 46.15
Total | 55 |  |  | 68.75 |  | 1,809.25

Dated: February 25, 2023.
Alison Barkoff,
Acting Administrator and Assistant Secretary for Aging.

[FR Doc. 2023-04249 Filed 3-1-23; 8:45 am]

BILLING CODE 4154-01-P